DEPARTMENT OF ENERGY

Notice of Cancellation of Environmental Impact Statement for the McIntosh Unit 4 Pressurized Circulating Fluidized Bed Demonstration Project

AGENCY: Department of Energy.

ACTION: Notice of cancellation of Environmental Impact Statement Process.

SUMMARY: The Department of Energy (DOE) is canceling the preparation of an Environmental Impact Statement (EIS) for a proposal by the City of Lakeland to design, construct, and operate a project known as the McIntosh Unit 4 Pressurized Circulating Fluidized Bed Demonstration Project in Lakeland, Florida. DOE selected the City of Lakeland's proposal for further consideration under DOE's Clean Coal Technology Demonstration Program competitive solicitation. The City of Lakeland proposed constructing the demonstration project at the site of the existing C.D. McIntosh Junior Power Plant along the northeastern shore of Lake Parker. The proposed project was intended to demonstrate advanced circulating fluidized bed combustion technologies using a variety of low and high sulfur coal to produce electricity. DOE published a Notice of Intent to prepare an EIS for the proposal in the Federal Register on March 26, 1999 (64 FR 14710), and conducted a public scoping meeting in the City of Lakeland's City Commission Chambers on April 13, 1999. The proposed project has been discontinued. As a result, DOE is canceling the EIS process.

FOR FURTHER INFORMATION, CONTACT: Lloyd Lorenzi, National Energy Technology Laboratory, U.S. Department of Energy, P.O. Box 10940, Pittsburgh, PA 15236-0940, telephone (412) 386-6159, or electronic mail at lorenzi@netl.doe.gov.

Issued in Morgantown, WV, on this 15th day of September, 2004.
Ralph Carabetta,
Deputy Director, National Energy Technology Laboratory.

[FR Doc. 04-23918 Filed 10-25-04; 8:45 am]

BILLING CODE 6450-01-P